DEPARTMENT OF TRANSPORTATION

Federal Aviation Administration

Sixth Meeting, Special Committee 215; Aeronautical Mobile Satellite (Route) Services Next Generation Satellite Services and Equipment

AGENCY: Federal Aviation Administration (FAA), DOT.

ACTION: Notice of RTCA Special Committee 215, Aeronautical Mobile Satellite (Route) Services, Next Generation Satellite Services and Equipment.

SUMMARY: The FAA is issuing this notice to advise the public of a second meeting of RTCA Special Committee 215, Aeronautical Mobile Satellite (Route) Services, Next Generation Satellite Services and Equipment.

DATES: The meeting will be held March 4-5, 2008, at 9 a.m.

ADDRESSES: The meeting will be held at RTCA Headquarters, 1828 L Street, NW., Washington, DC 20036.

FOR FURTHER INFORMATION CONTACT: RTCA Secretariat, 1828 L Street, NW., Suite 805, Washington, DC 20036; telephone (202) 833-9339; fax (202) 833-9434; Web site http://www.rtca.org for directions. Note: Dress is business casual.

SUPPLEMENTARY INFORMATION: Pursuant to section 10(a)(2) of the Federal Advisory Committee Act (Pub. L. 92-463, 5 U.S.C., Appendix 2), notice is hereby given for a Special Committee 215 meeting. The agenda will include:

• March 4:

• Opening Plenary Session (Welcome, Introductions, and Administrative Remarks, Review and Approval of Agenda for Sixth Plenary)

• Review and Approval of Fifth Meeting Summary (215-045; RTCA Paper No. 295-07/SC215-011).

• Review of Action List Outstanding Actions.

• DO-270 Normative Appendix.

• Subnetwork Operational Approval Requirements.

• Report for Drafting Group.

• Review of DO-270 Normative Appendix.

• Draft DO-262-Normative Appendix.

• Review of Approach and Format for Appendix Publication.

• Status Update on any Remaining Sections.

• Review and Discussion of TSO (D. Robinson, FAA).

• Closing Plenary Session (Other Business, Schedule Next Plenary Meeting, Adjourn-Wednesday, March 5, 2008; 12 noon).

Attendance is open to the interested public but limited to space availability. With the approval of the chairmen, members of the public may present oral statements at the meeting. Persons wishing to present statements or obtain information should contact the person listed in the For Further Information Contact section. Members of the public may present a written statement to the committee at any time.

Issued in Washington, DC on February 8, 2008.
Robert L. Bostiga,
RTCA Advisory Committee (Acting).

[FR Doc. 08-699 Filed 2-15-08; 8:45 am]

BILLING CODE 4910-13-M